ENVIRONMENTAL PROTECTION AGENCY

Draft Environmental Impact Report/Environmental Impact Statement, Lower Owens River Project; Inyo County, California

ACTION: Notice of Intent to Prepare a Draft Environmental Impact Report/Environmental Impact Statement.

SUMMARY: The Lower Owens River Project is proposed by the City of Los Angeles, Department of Water and Power (LADWP), and the County of Inyo, to restore various wetland and riparian habitats along approximately 60 miles of the Owens River. The project is a result of a settlement agreement among LADWP, County of Inyo, state agencies, and environmental groups to resolve issues related to the export of water from the Owens Valley by LADWP. The Environmental Protection Agency (EPA) will provide funding to assist in the implementation of the project. As lead agency under the National Environmental Policy Act (NEPA), EPA must prepare an Environmental Impact Statement (EIS). As lead agency under the California Environmental Quality Act (CEQA) , LADWP must prepare an Environmental Impact Report (EIR). A joint state and federal environmental document (EIR/EIS) will be developed. The project is expected to result in an overall long-term enhancement of the aquatic, wetland, and riparian habitats of a major river, and provide significant opportunities for increased abundance and variety of fish and wildlife resources, including endangered species. The major environmental impacts to be addressed are short-term water quality degradation due to the re-introduction of water to the river after 80 years, and the associated short-term adverse effects on native and sport fisheries, as well as potential adverse effects to archeological resources.

Public Scoping and EIR/EIS Schedule

A public scoping meeting to receive input on the scope of the EIR/EIS will be conducted on February 16, 2000 at 6:30 pm at Statham Hall, 138 North Jackson St., Lone Pine, California. A draft EIR/EIS is expected to be issued for public review by June 2000. A final EIR/EIS is planned to be issued the fall of 2000. A Record of Decision will be issued in late 2000.

FOR FURTHER INFORMATION CONTACT: Janet Parrish, U.S. EPA Region IX (WTR-2), 75 Hawthorne Street, San Francisco, CA 94105. Phone: 415-744-1940. Fax: 415-744-1078. E-mail: parrish.janet@epa.gov. Written comments on the scope of the EIS may also be submitted for consideration by EPA on or before February 21 at the above address, or at the scoping meeting. The Notice of Preparation (NOP), developed pursuant to CEQA, is available through LADWP and County of Inyo. Contact Clarence Martin, LADWP, 760-872-1104, or Leah Kirk, County of Inyo Water Department, 760-872-1168.

SUPPLEMENTARY INFORMATION:

Origin of the Project

In 1913, the City of Los Angeles completed an aqueduct from the Owens Valley to Los Angeles. The primary source of water was surface water diverted from the Owens Valley and, to a lesser extent (following completion of a tunnel in 1940), from the Mono Basin. In 1970, a second aqueduct was completed by the City of Los Angeles to be supplied from three sources: Increased surface water diversions from the Owens Valley, increased groundwater pumping from the valley, and increased surface water diversions from the Mono Basin.

In 1972, the County of Inyo (County) sued the City of Los Angeles in Inyo County Superior Court under the California Environmental Quality Act (CEQA) to require the Los Angeles Department of Water and Power (LADWP) to prepare an Environmental Impact Report (EIR) on its groundwater pumping to supply the second aqueduct. LADWP was ordered to prepare an EIR. LADWP issued EIRs in 1976 and 1979, but both were found to be legally inadequate by the 3rd District Court of Appeals in Sacramento.

In the 1980s, the County and LADWP conducted discussions to develop a cooperative water management plan. Various technical studies were conducted at that time concerning groundwater and vegetation in the Owens Valley. An interim agreement was executed in 1984 between the County and LADWP which called for more cooperative studies, certain environmental enhancement projects, and continued negotiations on a long-term agreement. A new EIR on the groundwater pumping, completed by LADWP and the County, was issued in August 1991. It addressed all water management practices and facilities associated with the second aqueduct, and projects and water management practices identified in the Inyo County/Los Angeles Long Term Water Agreement (“Agreement”). In October 1991, the County and LADWP approved the Agreement, which provides environmental protection of the Owens Valley from the effects of groundwater pumping and water exports. The Agreement committed LADWP and the County to implement the Lower Owens River Project (LORP). The Final EIR (August 1991) and the Agreement were submitted to the Court with a joint request to end litigation.

Shortly thereafter, concerns about the legal adequacy of the 1991 Final EIR were raised by state agencies and environmental groups. In 1994, the Court ordered the County and LADWP to respond to certain of these issues. After several years of settlement discussions among all parties, a Memorandum of Understanding (MOU) was executed that provides resolution over the concerns about the EIR, particularly related to the adequacy of mitigation described in the EIR for impacts due to historic pumping and diversion activities in the Owens Valley. In June 1997, the Court accepted the MOU as a final settlement, effectively ending all litigation and allowing the full provisions of the Agreement and the 1991 Final EIR mitigation to be implemented. Parties to the MOU include LADWP, Inyo County, California Department of Fish and Game, State Lands Commission, Sierra Club, and Owens Valley Committee.

The MOU includes provisions that expand the LORP. The project was identified in the 1991 Final EIR as compensatory mitigation for impacts related to groundwater pumping by LADWP from 1970 to 1990 that were difficult to quantify. The MOU specifies the goal of the LORP, time frame for development and implementation, and specific actions. It also provides certain minimum requirements for the LORP related to flows, locations of facilities, and habitat and species to be addressed. Finally, the MOU specifies that LADWP and Inyo County prepare an EIR for the LORP and issue a draft EIR within 36 months of execution of the MOU (i.e., June 2000), and that flows in the river begin within 72 months of the MOU execution (i.e., June 2003).

Goal of the LORP

The goal of the LORP, as stated in the MOU, is the establishment of a healthy, functioning Lower Owens River riverine-riparian ecosystem, and the establishment of healthy functioning ecosystems in the other elements of the LORP, for the benefit of biodiversity and threatened and endangered species, while providing for the continuation of sustainable uses including recreation, livestock grazing, agriculture, and other activities. Natural habitats will be created and enhanced consistent with the needs of certain habitat indicator species.

Four Primary Elements of the LORP

Riverine-Riparian Habitats

A continuous flow will be maintained from the intake structure to a pump system located near the river delta at Owens Lake, which will connect to a pipeline that will divert water to the Los Angeles Aqueduct or to the bed of Owens Lake for use in particulate control projects. Any water in the river that is above the amount specified in the MOU for release to the Owens River Delta can be recovered by the pump facility. The flow regime is as follows:

• A base flow of approximately 40 cfs from the intake to the pump system must be maintained year-round to support wetland and riparian habitat for indicator species, and to maintain recreational and native fisheries

• A riparian habitat flow must be seasonally released that would result in a total flow that would vary from 40 to 200 cfs in general proportion to the forecasted runoff each year. These flows are intended to: create a natural disturbance to establish and maintain native riparian vegetation and channel morphology.

The pump system will consist of a diversion in the river and a pump facility to convey water in a buried pipe to the Los Angeles Aqueduct. The general location of the pump system is specified in the MOU. LADWP is considering using some or all of the water from the pump system for dust control on Owens Lake.

Owens River Delta Habitat Area

This wetland and riparian habitat area is located below the pump facility. It will be enhanced and maintained by flow and land management. An average annual flow of 6 to 9 cfs must be maintained below the pump system, for habitat enhancement purposes.

Blackrock Waterfowl Habitat Area

This 1,500-acre area contains extensive waterfowl habitat. It will be enhanced through flow and land management to increase diversity.

Off-River Lakes and Ponds

Off-river lakes and ponds near the Blackrock Waterfowl Habitat Area will be enhanced and maintained for fisheries, shorebirds, and other birds through flow and land management.

Other Elements of the LORP

Land Management Plan

The preparation of a land management plan was specified in the MOU. It will address grazing on leases within LORP planning area. Management plans will be prepared for individual leases with a focus on enhancing native habitat diversity while allowing for sustainable grazing. The plans will focus on upland and riparian areas, irrigated pastures, and areas with sensitive species or habitats.

Recreation Plan

The LORP will also include a plan to guide access to, and recreational uses of, the LORP area, consistent with current LADWP management guidelines for public uses of the land. The focus of the plan is to ensure compatible human uses of the LORP lands.

Monitoring and Reporting Plan

The LORP will include a long-term plan for collecting and analyzing data on the progress of the LORP. These data will be used in an adaptive management program in which management actions will be modified, as necessary, to ensure successful implementation of the LORP.

Dated: January 21, 2000.
Richard E. Sanderson,
Director, Office of Federal Activities.

[FR Doc. 00-2133 Filed 1-31-00; 8:45 am]

BILLING CODE 6560-50-U